DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or August 4, 2023.

ADDRESSES: Record Center, Pipeline and Hazardous Materials Safety Administration U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on June 1, 2023.
Donald P. Burger,
Chief, General Approvals and Permits Branch.

Application No. | Applicant | Regulation(s) affected | Nature of the special permits thereof
Special Permits Data
21573-N | Sharpsville Container Corporation | 178.274(j)(3), 178.274(j)(4) | To authorize the transportation in commerce of portable tanks containing certain hazardous materials where the tank has not been leakage tested in accordance with 49 CFR 178.274(j). (modes 1, 3).
21575-N | Luxfer Inc | 173.302a(a)(1), 173.304a(a)(1) | To authorize the manufacture, mark, sale, and use of a non‐DOT specification fully wrapped carbon fiber composite cylinder with a seamless aluminum liner. (modes 1, 2, 3, 4, 5).
21578-N | Korean Air Lines Co., Ltd | 172.101(j) | To authorize the transportation in commerce of certain Class 1 explosive materials that are forbidden for transportation by cargo-only aircraft, by cargo-only aircraft. (mode 4).
21579-N | KULR Technology Corporation | 173.6(a)(1), 173.6(d) | To authorize the manufacture, mark, sale, and use of packaging for the purpose of transporting lithium batteries as Materials of Trade in excess of the package weight limitations and vehicle aggregate weight limitations. (mode 1).
21580-N | Arkema Inc | 173.301, 173.302 | To authorize the transportation in commerce of Boron Trifluoride in a non-DOT specification cylinder. (modes 1, 3).

[FR Doc. 2023-14153 Filed 7-3-23; 8:45 am]

BILLING CODE P